DEPARTMENT OF HOUSING AND URBAN DEVELOPMENT

[Docket No. FR-6086-N-12]

Economic Growth Regulatory Relief and Consumer Protection Act: Implementation of National Standards for the Physical Inspection of Real Estate (NSPIRE); Extension of NSPIRE Compliance Date for Housing Choice Voucher, Project-Based Voucher, and Section 8 Moderate Rehabilitation Programs

AGENCY: Office of the Assistant Secretary for Public and Indian Housing (PIH), HUD.

ACTION: Notice.

SUMMARY: This notice further extends the compliance date for HUD's National Standards for the Physical Inspection of Real Estate (NSPIRE) final rule for the Housing Choice Voucher (HCV), Project-Based Voucher (PBV), and Section 8 Moderate Rehabilitation (Mod Rehab) programs through January 31, 2027. HUD is taking this action to provide Public Housing Agencies (PHAs) with additional time to implement HUD's NSPIRE standards and the change to the definition of Housing Quality Standards (HQS). This is the third extension of this compliance date.

DATES: PHAs subject to 24 CFR parts 882, 982, and 983 are not required to comply with the following changes to these parts in the NSPIRE final rule until February 1, 2027.

• 24 CFR 982.4, definition of Housing Quality Standards (HQS), including the subsequent changes made by the HOTMA voucher final rule (89 FR 38224).

• 24 CFR 982.401, including the subsequent changes made by the HOTMA voucher final rule.

• 24 CFR part 982 subpart M, including the subsequent changes made by the HOTMA voucher final rule, except 24 CFR 982.628(d).

• 24 CFR 983.3, definition of Housing Quality Standards (HQS), including the subsequent changes made by the HOTMA voucher final rule.

• 24 CFR 983.101(a)-(b), including the subsequent changes made by the HOTMA voucher final rule.

All other changes are in effect as required by the NSPIRE and HOTMA voucher final rules.

FOR FURTHER INFORMATION CONTACT: Dana Kitchen, Real Estate Assessment Center, Office of Public and Indian Housing, Department of Housing and Urban Development, 550 12th Street SW, Suite 100, Washington, DC 20410-4000; telephone (612) 370-3089 (this is not a toll-free number), email REAC_TAC@hud.gov. HUD welcomes and is prepared to receive calls from individuals who are deaf or hard of hearing, as well as individuals with speech or communication disabilities. To learn how to make an accessible telephone call, please visit: https://www.fcc.gov/consumers/guides/telecommunications-relay-service-trs.

SUPPLEMENTARY INFORMATION:

I. Background

Many PHAs administering the HCV, PBV, and Mod Rehab programs currently use HQS for inspections, previously defined at 24 CFR 982.401. HUD's Economic Growth Regulatory Relief and Consumer Protection Act: Implementation of National Standards for Physical Inspection of Real Estate (NSPIRE) final rule (“NSPIRE final rule”) (88 FR 30442), published on May 11, 2023, includes amendments to 24 CFR parts 882, 982, and 983 (among others), effective October 1, 2023. HUD has delayed the compliance date for the HCV, PBV, and Mod Rehab programs twice. In September 2023 (88 FR 66882), the compliance date was delayed until October 1, 2024, and in July 2024 (89 FR 55645), the compliance date was delayed until October 1, 2025. These delays allowed PHAs additional time to implement NSPIRE.

With this notice, HUD has included specific provisions to clarify the intent of the extension. Reference to the Housing Opportunities Through Modernization Act (HOTMA) voucher final rule (89 FR 38224) is due to its subsequent amendments to many of the NSPIRE final rule provisions and definitions. For example, the NSPIRE final rule changed 24 CFR 982.4, definition of Housing quality standards (HQS), and the HOTMA voucher final rule subsequently amended it further to include HUD-approved variations. With this notice, PHAs are not required to comply with the specific provisions that change the definition of HQS until February 1, 2027.

However, other provisions included in the NSPIRE final rule (whether amended by HOTMA or not), such as 24 CFR 982.352(b)(1)(iv)(A)(3), which references the duties of independent entities in PHA-owned eligible housing, became effective as required and are not included in the provisions extended by this notice.

II. Basis for Delay of Compliance Date

Through this notice, HUD further delays the compliance date for the HCV, PBV, and Mod Rehab programs until February 1, 2027. HUD continues to encourage PHAs that are ready to implement NSPIRE to proceed with implementation at their earliest convenience; however, HUD has determined that additional time is necessary for many PHAs to implement NSPIRE for the HCV, PBV, and Mod Rehab programs. This extension will provide PHAs with additional time to train their staff, communicate with landlords, and access additional technical assistance from HUD to support their transition to the NSPIRE standards.

PHAs and industry groups representing PHAs have reported to HUD their concerns related to landlord participation in the HCV and PBV programs. PHAs continue to face challenges in recruiting and retaining private landlords. Many PHAs report experiencing a significant loss in landlord participation and fear that a major change to the inspection processes and standards may exacerbate the problem. PHAs have urged HUD to consider additional delays to allow them more time to transition their staff and landlords/owners to the NSPIRE standards. Additionally, PHAs report that many private software vendors have not finished developing their NSPIRE-related inspection products for the PHAs, and, because HUD has paused the release of its inspection application, some PHAs may need additional time to prepare for another option.

III. Instructions for PHAs With HCV, PBV, and Mod Rehab Programs

All PHAs that have implemented NSPIRE, but have not yet notified HUD, should notify HUD of the date they transitioned to NSPIRE. In addition, PHAs that have not implemented NSPIRE, should notify HUD of the date they plan to implement NSPIRE. These notifications are to be sent via email to NSPIREV_AlternateInspection@hud.gov with a courtesy copy to their field office representative. The email's subject line should read “Notification of NSPIRE Implementation, [PHA code],” and the body of the email should include the PHA name, PHA code, and the date the PHA implemented NPSIRE or plans to implement NSPIRE (the date shall be no later than February 1, 2027). Regardless of implementation date, PHAs are reminded that the NSPIRE standards ¹ for installing carbon monoxide devices and smoke alarms still apply as they implement statutory mandates under the Consolidated Appropriations Act, 2021 ² and 2023,³ respectively. More information regarding carbon monoxide devices and smoke alarms can be found in the forthcoming PIH notice.

¹ NSPIRE Standards: https://www.hud.gov/reac/nspire-standards.

² Section 101, “Carbon Monoxide Alarms or Detectors in Federally Insured Housing” of Title I of Division Q, Financial Services Provisions and Intellectual Property, of the Consolidated Appropriations Act, 2021, Public Law 116-260, 134 (2020).

³ Section 601, “Smoke Alarms in Federally Assisted Housing” of Title VI of Division AA, Financial Services Matters, of the Consolidated Appropriations, 2023, Public Law 117-328 (2022).

IV. Conclusion

HUD extends the compliance date for the changes made to 24 CFR parts 882, 982, and 983 listed in the DATES section of this notice to February 1, 2027, at which time PHAs subject to these parts must comply with the NSPIRE final rule. Until February 1, 2027, PHAs may choose to comply with the provisions of these parts as amended by the NSPIRE final rule, which existed prior to October 1, 2023 (“HQS as previously defined”).

Benjamin Hobbs,
Principal Deputy Assistant Secretary for Public and Indian Housing.

[FR Doc. 2025-19070 Filed 9-29-25; 8:45 am]

BILLING CODE 4210-67-P